DEPARTMENT OF LABOR

Employment and Training Administration

[TA-W-42,227]

Jabil Circuit, Inc., Including Leased Workers of Manpower Temporary Services, Meridian, ID; Amended Certification Regarding Eligibility To Apply for Worker Adjustment Assistance

In accordance with section 223 of the Trade Act of 1974 (19 U.S.C. 2273) the Department of Labor issued a Notice of Certification Regarding Eligibility to Apply for Worker Adjustment Assistance on December 10, 2002, applicable to workers of applicable to all workers of Jabil Circuit, Inc. located in Meridian, Idaho. The notice was published in the Federal Register on December 26, 2002 (67 FR 78817).

At the request of the State agency, the Department reviewed the certification for workers of the subject firm. Information provided by the State agency shows that workers leased from Manpower Temporary Services were engaged in the production of printed circuit boards at Jabil Circuit in Meridian, Idaho.

Based on this information, the Department is amending the certification to include leased workers of Manpower Temporary Services engaged in the production of printed circuit boards at the subject firm.

The intent of the Department's certification is to include all workers of the subject firm who were adversely affected by an increase in imports.

The amended notice applicable to TA-W-42,227 is hereby issued as follows:

All workers of Jabil Circuit, Inc., Meridian, Idaho, and leased workers of Manpower Temporary Services engaged in the production of printed circuit boards at Jabil Circuit, Inc., Meridian, Idaho, who became totally or partially separated from employment on or after September 23, 2001, through December 10, 2004, are eligible to apply for adjustment assistance under section 223 of the Trade Act of 1974.

Signed at Washington, DC, this 6th day of March 2003.
Richard Church,
Certifying Officer, Division of Trade Adjustment Assistance.

[FR Doc. 03-13820 Filed 6-2-03; 8:45 am]

BILLING CODE 4510-30-P